DEPARTMENT OF THE INTERIOR

Bureau of Land Management

[LLOR-936000-L14300000-ET0000; HAG-09-0032; OR-44410]

Notice of Proposed Withdrawal Extension and Opportunity for Public Meeting; Oregon

AGENCY: Bureau of Land Management, Interior.

ACTION: Notice.

SUMMARY: The Secretary of the Interior proposes to extend the duration of Public Land Order (PLO) Number 6865 for an additional 20-year term. This PLO withdrew approximately 507.50 acres of public land in Baker County, Oregon, from settlement, sale, location, or entry under the general land laws, including the mining laws, to protect the significant historic and cultural resource values and the investment of Federal funds at the National Historic Oregon Trail Interpretive Center at Flagstaff Hill. The withdrawal created by PLO Number 6865 will expire on July 16, 2011, unless extended. This notice also gives the public an opportunity to comment on the proposed action and to request a public meeting.

DATES: Comments and requests for a public meeting must be received by April 5, 2010.

ADDRESSES: Comments and meeting requests should be sent to the Oregon/Washington State Director, BLM, P.O. Box 2965, Portland, Oregon 97208-2965.

FOR FURTHER INFORMATION CONTACT: Sarah LeCompte, Bureau of Land Management Oregon Vale Field Office, (541) 523-1825, or Charles R. Roy, Bureau of Land Management Oregon/Washington State Office, (503) 808-6189.

SUPPLEMENTARY INFORMATION: The Bureau of Land Management (BLM) has filed an application to extend the withdrawal established by PLO Number 6865 (56 FR 32515), which withdrew 507.50 acres of public land in Baker County, Oregon, from settlement, sale, location, or entry under the general land laws, including the United States mining laws, for an additional 20-year period, subject to valid existing rights. The land applied for is described in the Federal Register document cited above. The document is available to the public at the BLM office listed in the ADDRESSES section.

The use of a right-of-way, or interagency or cooperative agreement would not adequately constrain non-discretionary uses and would not provide adequate protection of the Federal investment in the improvements located on the land.

There are no suitable alternative sites with equal or greater benefit to the government.

No additional water rights will be needed to fulfill the purpose of the requested withdrawal extension.

The purpose of the proposed withdrawal extension is to protect significant historic and cultural resource values and the investment of Federal funds at the National Historic Oregon Trail Interpretive Center at Flagstaff Hill.

Until April 5, 2010, all persons who wish to submit comments, suggestions, or objections in connection with the proposed withdrawal extension may present their views in writing to the BLM State Director at the address listed in the ADDRESSES section.

Comments, including names and street addresses of respondents, will be available for public review at the address indicated above during regular business hours.

Individual respondents may request confidentiality. Before including your address, phone number, e-mail address, or other personal identifying information in your comment, be advised that your entire comment—including your personal identifying information—may be made publicly available at any time. While you can ask us in your comment to withhold from public review your personal identifying information, we cannot guarantee that we will be able to do so.

Notice is hereby given that an opportunity for a public meeting is afforded in connection with the proposed withdrawal extension. All interested parties who desire a public meeting for the purpose of being heard on the proposed withdrawal must submit a written request to the BLM State Director at the address listed in the ADDRESSES section by April 5, 2010. Upon determination by the authorized officer that a public meeting will be held, a notice of the time and place will be published in the Federal Register and at least one local newspaper at least 30 days before the scheduled date of the meeting.

The application will be processed in accordance with the regulations set forth in 43 CFR part 2300.

Authority: 43 CFR 2310.3-1.

Fred O'Ferrall,
Chief, Branch of Lands and Mineral Resources.

[FR Doc. E9-31250 Filed 1-4-10; 8:45 am]

BILLING CODE 4310-33-P